NUCLEAR REGULATORY COMMISSION

[EA-NRR-2025-0013; NRC-2025-0016]

Order Modifying Licenses and Establishing Initial Final Safety Analysis Report Update Due Dates Consistent With the Non-Power Production or Utilization Facility License Renewal Rule

AGENCY: Nuclear Regulatory Commission.

ACTION: Notice; issuance.

SUMMARY: The U.S. Nuclear Regulatory Commission (NRC) has issued an Order to the licensees of non-power production or utilization facilities (NPUFs) identified in the Attachment to the Order. The Order modifies certain current NPUF licenses and establishes initial final safety analysis report update due dates for certain existing NPUFs consistent with the Non-Power Production or Utilization Facility License Renewal Rule dated December 30, 2024.

DATES: The Order was issued on February 6, 2025.

ADDRESSES: Please refer to Docket ID NRC-2025-0016 when contacting the NRC about the availability of information regarding this document. You may obtain publicly available information related to this document using any of the following methods:

• Federal Rulemaking Website: Go to https://www.regulations.gov and search for Docket ID NRC-2025-0016. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Order dated February 6, 2025, is available in ADAMS under Accession No. ML24354A207.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Duane Hardesty, Office of Nuclear Reactor Regulation, U.S. Nuclear Regulatory Commission, Washington, DC 20555-0001, telephone: 301-415-3724, email: Duane.Hardesty@nrc.gov.

SUPPLEMENTARY INFORMATION: The text of the Order is attached.

Dated: February 7, 2025.
For the Nuclear Regulatory Commission.
Duane A. Hardesty,
Senior Project Manager, Non-Power Production and Utilization Facility Licensing Branch, Division of Advanced Reactors and Non-Power Production and Utilization Facilities, Office of Nuclear Reactor Regulation.

Attachment—Order

United States of America Nuclear Regulatory Commission

In the Matter of: All Licensees of Facilities Identified in Attachment

Docket Nos. (as shown in Attachment)

License Nos. (as shown in Attachment)

EA-NRR-2025-0013

Order Modifying Licenses and Establishing Initial Final Safety Analysis Report Update Due Dates Consistent With the Non-Power Production or Utilization Facility License Renewal Rule

I

In accordance with the Atomic Energy Act of 1954, as amended (AEA), the facilities identified in the Attachment to this Order are licensed by the U.S. Nuclear Regulatory Commission (NRC, the Commission) under Title 10 of the Code of Federal Regulations (10 CFR) Part 50, “Domestic Licensing of Production and Utilization Facilities,” as non-power production or utilization facilities (NPUFs). On December 30, 2024, the NRC issued the final rule “Non-Power Production or Utilization Facility License Renewal” (89 FR 106234; the NPUF LR Rule) to provide a new framework for enabling NPUFs to continue to operate safely while reducing burden on NPUF licensees and the NRC. The NPUF LR Rule did this by eliminating the use of license terms for certain NPUFs licensed after the effective date of the rule and requiring that NPUF licensees periodically submit final safety analysis report (FSAR) updates. This Order applies this new framework to certain existing NPUFs by modifying their licenses to eliminate their license terms and by establishing their initial FSAR update submittal due dates.

II

The NRC licenses NPUFs under the authority granted in Sections 103 and 104 of the AEA. Section 103 of the AEA applies to commercial and industrial facilities, and Sections 104a and 104c of the AEA apply to facilities used for medical therapy and for research and development activities, respectively. The section of the AEA that provides licensing authority for the NRC corresponds directly to the class of license issued for a facility (e.g., Section 104a of the AEA authorizes the issuance of a “class 104a” license). Furthermore, Sections 104a and 104c of the AEA require that the Commission impose the minimum amount of regulation needed to promote the common defense and security; protect the health and safety of the public; and permit, under Section 104a, the widest amount of effective medical therapy possible and, under Section 104c, the conduct of widespread and diverse research and development.

The AEA dictates an initial license term of no more than 40 years for class 103 facilities, but the AEA does not establish specific license terms for class 104 facilities, which are licensed under 10 CFR 50.21, “Class 104 licenses; for medical therapy and research and development facilities,” paragraph (a) or (c), nor does the AEA direct the NRC to specify license terms for class 104 facilities. Before the NPUF LR Rule, 10 CFR 50.51, “Continuation of license,” paragraph (a) stated, in part, “Each license will be issued for a fixed period of time to be specified in the license but in no case to exceed 40 years from date of issuance.” This included all facility licenses issued under 10 CFR part 50, including licenses for facilities issued under 10 CFR 50.21(a) or (c). Historically, the renewal of NPUF licenses afforded both the NRC and the public the opportunity to re-evaluate the licensing basis of the NPUF. The purpose of the renewal of NPUF licenses was to assess the likelihood of continued safe operation of the NPUF, such that radioactive materials can be used for beneficial civilian purposes in a safe and secure manner. For several reasons that are unique to NPUFs, the NRC determined as part of the NPUF LR Rule that this objective is achievable for certain NPUFs through existing oversight activities and review of FSAR updates. The NRC reached this conclusion based on three considerations: (1) low overall radiological risk, (2) limited aging-related issues, and (3) slow evolution of the design basis. Accordingly, the NPUF LR Rule amended 10 CFR 50.51 to state that each NPUF license issued under 10 CFR 50.21(a) or (c), other than a testing facility license, after January 29, 2025 (i.e., the effective date of the rule), will be issued with no fixed license term. The rule also amended 10 CFR 50.71, “Maintenance of records, making of reports,” to require that NPUF licensees file FSAR updates at no more than 5-year intervals. The NPUF LR Rule determined that this approach enables NPUFs to continue to operate safely while reducing burden on NPUF licensees and the NRC and remains consistent with the NRC's responsibilities under the AEA. This approach is also consistent with the NRC's goal of efficient and effective licensing and implements and reflects lessons learned from decades of reviewing NPUF license renewal applications.

III

The NPUF LR Rule explained that most licenses of existing NPUFs licensed under 10 CFR 50.21(a) or (c), other than testing facilities, will be modified by order to remove the license terms after the effective date of the rule (i.e., January 29, 2025). Specifically, it stated that NPUFs licensed under 10 CFR 50.21(a) or (c), other than testing facilities, that have undergone relicensing using the guidance in NUREG-1537, Part 2, “Guidelines for Preparing and Reviewing Applications for the Licensing of Non-Power Reactors: Standard Review Plan and Acceptance Criteria,” are eligible to receive a non-expiring license without again renewing the current license. Therefore, consistent with the NPUF LR Rule and pursuant to Sections 104, 161b, 161i, 161o, 182, and 187 of the AEA and the Commission's regulations in 10 CFR 2.202, “Orders,” and 10 CFR part 50, it is hereby ordered that the language regarding expiration in the licenses for such NPUFs is modified to state: “This license is effective as of the date of its issuance and has no fixed term.” The NPUFs with licenses that are affected by this modification are identified in the Attachment to this Order by a “Yes” in the “Non-Expiring License Modification” column of the Attachment. Existing NPUFs licensed under 10 CFR 50.21(a) or (c), other than testing facilities, for which an application for license renewal is pending before the NRC are not affected by this Order; instead, if the NRC concludes that the application meets the standard for issuing a renewed license, then the NRC would issue a non-expiring renewed license.

The NPUF LR Rule added new 10 CFR 50.71(e)(4)(ii), which states, in part, that NPUF licensees shall file an FSAR update no more than 5 years from the date of the submittal of the updated FSAR required by 10 CFR 50.71(e)(3)(iv) or “by order.” The NPUF LR Rule explained that, consistent with this regulation, the NRC will issue orders to existing NPUF licensees, other than those with an application for license renewal pending before the NRC, dictating when their initial FSAR update will be due to the NRC, after which they will be subject to the new requirement in 10 CFR 50.71(e)(4)(ii) to submit subsequent FSAR updates. Accordingly, it is further ordered that each NPUF licensee listed in the Attachment to this Order file an initial FSAR update for their facility by the date specified in the “Initial FSAR Update Due Date” column of the Attachment. However, upon written application and for good cause shown, such date may be extended by order. As required by 10 CFR 50.71(e)(4)(ii), each submittal must reflect all changes made to the FSAR up to a maximum of 6 months prior to the date of filing the submittal and the licensee shall file subsequent updates no more than 5 years from the date of the previous submittal. For existing NPUFs for which an application for license renewal is pending before the NRC, 10 CFR 50.71(e)(3)(iv) regarding initial FSAR updates will apply upon any issuance of the renewed license.

This Order is effective upon issuance.

IV

In accordance with 10 CFR 2.202, a licensee must, and any other person adversely affected by this Order may, submit a written answer to this Order under oath or affirmation within 20 days of its publication in the Federal Register. The licensee answer may consent to the Order and be submitted to the NRC in accordance with 10 CFR 50.4. In addition, a licensee and any other person adversely affected by this Order may request a hearing on this Order within 20 days of its publication in the Federal Register. Where good cause is shown, consideration will be given to extending the time to answer or request a hearing. A request for such an extension of time must be made in writing to the Director, Office of Nuclear Reactor Regulation, U.S. Nuclear Regulatory Commission, Washington, DC 20555, and include a statement of good cause for the extension. All documents filed in NRC adjudicatory proceedings, including documents filed by an interested State, local governmental body, Federally recognized Indian Tribe, or designated agency thereof that requests to participate under 10 CFR 2.315, “Participation by a person not a party,” paragraph (c), must be filed in accordance with 10 CFR 2.302, “Filing of documents.” The E-Filing process requires participants to submit and serve all adjudicatory documents over the internet, or in some cases, to mail copies on electronic storage media, unless an exemption permitting an alternative filing method, as further discussed, is granted. Detailed guidance on electronic submissions is located in the “Guidance for Electronic Submissions to the NRC” (Agencywide Documents Access and Management System Accession No. ML13031A056), and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. eastern time (ET) on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

If a person other than a licensee requests a hearing, that person shall set forth with particularity the manner in which their interest is adversely affected by this Order and shall address the criteria set forth in 10 CFR 2.309(d) and (f).

If a hearing is requested by a licensee or a person whose interest is adversely affected, the Commission will issue an order designating the time and place of any hearings. If a hearing is held, the issue to be considered at such hearing shall be whether this Order should be sustained. In the absence of any request for hearing, or written approval of an extension of time in which to request a hearing, the provisions specified in Section III shall be final 20 days from the date this Order is published in the Federal Register without further order or proceedings. If an extension of time for requesting a hearing has been approved, the provisions specified in Section III shall be final when the extension expires if a hearing request has not been received.

Dated: February 6, 2025.

For the Nuclear Regulatory Commission.

Jeremy S. Bowen,

Director, Division of Advanced Reactors and Non-Power Production and Utilization Facilities, Office of Nuclear Reactor Regulation.

List of Affected Facilities
[Arranged by initial FSAR update due date]
Facility | Licensee | Docket No. | License No. | Non-expiring license modification | Initial FSAR update due date | NRC staff project manager
Missouri University Research Reactor Facility | Curators of the University of Missouri | 50-186 | R-103 | Yes | 7/31/2025 | J. Lovett.
Oregon State University TRIGA reactor | Oregon State University | 50-243 | R-106 | Yes | 8/25/2025 | M. Balazik.
University of California-Davis, McClellan Nuclear Research Center reactor | Regents of the University of California | 50-607 | R-130 | Yes | 12/31/2025 | L. Tran.
Maryland University Training Reactor | University of Maryland | 50-166 | R-70 | Yes | 1/5/2026 | C. Montgomery.
University of California, Irvine, Nuclear Reactor Facility | Board of Regents of the University of California | 50-326 | R-116 | Yes | 3/16/2026 | L. Tran.
Idaho State University AGN 201M research reactor | Idaho State University | 50-284 | R-110 | Yes | 5/29/2026 | A. Miller.
Purdue University Research Reactor | Purdue University | 50-182 | R-87 | Yes | 8/10/2026 | C. Montgomery.
Rhode Island Nuclear Science Center | Rhode Island Atomic Energy Commission | 50-193 | R-95 | Yes | 10/26/2026 | B. Stamler.
Armed Forces Radiobiology Research Institute TRIGA-Mark F tank-type nuclear reactor facility | Armed Forces Radiobiology Research Institute | 50-170 | R-84 | Yes | 1/8/2027 | C. Montgomery.
University of Massachusetts Lowell Research Reactor | University of Massachusetts Lowell | 50-223 | R-125 | Yes | 3/3/2027 | E. Helvenston.
Washington State University Modified TRIGA Nuclear Reactor | Washington State University | 50-027 | R-76 | Yes | 5/17/2027 | D. Hardesty.
National Bureau of Standards test reactor | National Institute of Standards and Technology | 50-184 | TR-5 | No | 7/2/2027 | J. Hudson.
Kansas State Nuclear Reactor Facility | Kansas State University, Manhattan, Kansas | 50-188 | R-88 | Yes | 7/30/2027 | A. Miller.
U.S. Geological Survey TRIGA Research Reactor | U.S. Geological Survey | 50-274 | R-113 | Yes | 9/27/2027 | B. Gallagher.
Ohio State University Research Reactor | Ohio State University | 50-150 | R-75 | Yes | 10/22/2027 | J. Lovett.
Missouri University of Science and Technology Research Reactor | Board of Curators of the University of Missouri | 50-123 | R-79 | Yes | 12/27/2027 | P. Torres.
Texas Engineering Experiment Station/Texas A&M University System Nuclear Science Center | Texas Engineering Experiment Station/Texas A&M University System | 50-128 | R-83 | Yes | 3/13/2028 | B. Gallagher.
Reed Research Reactor | Reed College | 50-288 | R-112 | Yes | 5/26/2028 | B. Stamler.
Penn State Breazeale Reactor | Pennsylvania State University | 50-005 | R-2 | Yes | 8/9/2028 | J. Lovett.
University of Wisconsin's nuclear reactor with the TRIGA nuclear core and control system | University of Wisconsin | 50-156 | R-74 | Yes | 10/23/2028 | P. Torres.
University of Utah TRIGA Nuclear Reactor | University of Utah | 50-407 | R-126 | Yes | 1/8/2029 | J. Lovett.
University of Florida Training Reactor | University of Florida | 50-083 | R-56 | Yes | 3/23/2029 | D. Hardesty.
Massachusetts Institute of Technology reactor facility | Massachusetts Institute of Technology | 50-020 | R-37 | Yes | 6/6/2029 | C. Montgomery.
University of New Mexico AGN-201M Reactor | University of New Mexico | 50-252 | R-102 | Yes | 8/20/2029 | E. Helvenston.
Dow TRIGA Research Reactor | Dow Chemical Company | 50-264 | R-108 | Yes | 11/5/2029 | B. Stamler.
Aerotest Radiography and Research Reactor (ARRR), a pool-type nuclear reactor | Nuclear Labyrinth, LLC | 50-228 | R-98 | No | 11/20/2029 | W. Allen.
Critical Experiments Facility | Rensselaer Polytechnic Institute | 50-225 | CX-22 | Yes | 1/18/2030 | J. Lovett.
Nuclear Test Reactor | GE-Hitachi Nuclear Energy Americas, LLC | 50-073 | R-33 | No | 1/18/2030 | W. Allen.

[FR Doc. 2025-02523 Filed 2-11-25; 8:45 am]

BILLING CODE 7590-01-P